DEPARTMENT OF DEFENSE

Office of the Secretary

[Docket ID: DoD-2016-OS-0003]

Privacy Act of 1974; System of Records

AGENCY: Office of the Secretary of Defense, DoD.

ACTION: Notice to alter a System of Records.

SUMMARY: The Office of the Secretary of Defense proposes to alter a system of records notice DWHS P28, entitled “Personnel Security Operations File” to maintain security clearance and authorized access information.

DATES: Comments will be accepted on or before February 22, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in the FOR FURTHER INFORMATION CONTACT or from the Defense Privacy and Civil Liberties Division Web site at http://dpcld.defense.gov/.

The proposed systems reports, as required by 5 U.S.C. 552a(r) of the Privacy Act, as amended, were submitted on January 7, 2016 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: January 14, 2016.
Aaron Siegel,
Alternate OSD Federal Register Liaison Officer, Department of Defense.

DWHS P28

System name:

Personnel Security Operations File (August 17, 2001, 66 FR 43236).

Changes:

* * * * *

System location:

Delete entry and replace with “Personnel Security Operations Division (PSOD), Human Resources Directorate (HRD), Washington Headquarters Services (WHS), Department of Defense (DoD), 1155 Defense Pentagon, Washington DC 20301-1155.”

Categories of individuals covered by the system:

Delete entry and replace with “Applicants for, civilian employees of, and military members assigned to, WHS, the Office of the Secretary of Defense (OSD), and its components and supported organizations who require either vetting under Homeland Security Presidential Directive-12 for vetting purposes or require access to classified DoD information or materials.

Contractors supporting the above organizations covered by Homeland Security Presidential Directive-12 for vetting purposes.

Experts and consultants serving with or without compensation.

Certain employees of the Congressional Budget Office and the U.S. Capitol Police, who require access to classified DoD information or materials.

Staff of Congressional committees and Congressional member office staff of the U.S. Senate and U.S. House of Representatives who require access to classified DoD information or material.

Employees of other Federal agencies detailed to the OSD.

Members and staff of DoD and Presidential Boards, Commissions and Task Forces.

Members detailed to DoD from other Executive Branch Agencies.

Defense contractors requiring access to special programs.Sole entity contractors who require access to classified DoD information or materials.

Unsalaried students working as interns in supported organizations.”

Categories of records in the system:

Delete entry and replace with “Name, Social Security Number (SSN), type of DoD affiliation, employing activity, current employment status, position sensitivity, personnel security investigative basis, status of current adjudicative action, security clearance eligibility and access status, reports of security-related incidents, to include issue files, suspension of eligibility and/or access, clearance withdrawal or suspension, denial or revocation of eligibility and/or access, eligibility recommendations or decisions made by an appellate authority, non-disclosure execution dates, indoctrination date(s), level(s) of access granted, debriefing date(s), and reason for debriefing.”

Authority for maintenance of the system:

Delete entry and replace with “E.O. 10450, Security Requirements for Government Employment; E.O. 10865, Safeguarding Classified Information Within Industry; Homeland Security Presidential Directive-12: Policy for a Common Identification Standard for Federal Employees and Contractors; DoD Directive 5200.2, DoD Personnel Security Program; DoD 5200.2-R, DoD Personnel Security Program; and E.O. 9397 (SSN), as amended.”

Purpose(s):

Delete entry and replace with “To maintain security clearance and authorized access information.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information routine Use: A record from a system of records maintained by a DoD Component may be disclosed as a routine use to federal, state, or local agency maintaining civil, criminal, or other relevant enforcement information or other pertinent information, such as current licenses, if necessary to obtain information relevant to a DoD Component decision concerning the hiring or retention of an employee, the issuance of a security clearance, the letting of a contract, or the issuance, grant, or other benefit.

Disclosure of Requested Information Routine Use: A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending litigation to which the record is pertinent.

Disclosure of Information to the National Archives and Records Administration Routine Use: A record from a system of records maintained by a DoD Component may be disclosed as a routine use to the National Archives and Records Administration for the purpose of records management inspections conducted under authority 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx”

Policies and practices for storing, retrieving, accessing, retaining, and disposing of records in the system:

Storage:

Delete entry and replace with “Paper file folders and electronic storage media.”

Retrievability:

Delete entry and replace with “Name and SSN.”

Safeguards:

Delete entry and replace with “Records are maintained under the direct control of office personnel during duty hours. Building has security guards and office is locked and alarmed during non-duty hours. Computer media is stored in controlled areas. Computer terminal access is controlled by Common Access Cards and/or user passwords that are periodically changed. Classified files are maintained in paper form, versus the electronic storage media. Paper records are maintained in security containers with access to records limited to person(s) responsible for servicing the record in performance of their official duties and who are properly screen and cleared for need-to-know.”

Retention and disposal:

Delete entry and replace with “Inactivate file when employee leaves the Agency; retain in files storage area and destroy after 2 years. Files for military personnel are destroyed upon separation. Files pertaining to contractor SCI eligibility are destroyed upon favorable SCI eligibility determination.”

System manager(s) and address:

Delete entry and replace with “Personnel Security Operations Division, Human Resources Directorate, Washington Headquarters Services, Department of Defense, 1155 Defense Pentagon, Washington, DC 20301-1155.”

Notification procedure:

Delete entry and replace with “Individuals seeking to determine whether information about themselves is contained in this system should address written inquiries to the Personnel Security Operations Division, Human Resources Directorate, Washington Headquarters Services, Department of Defense, 1155 Defense Pentagon, Washington DC 20301-1155.

Signed, written requests must include the full name of the individual, SSN, and name of the program.”

Record access procedures:

Delete entry and replace with “Individuals seeking to access information about themselves contained in this system should address written inquiries to the Office of the Secretary of Defense/Freedom of Information Act Requester Service Center, 4800 Mark Center Drive, Alexandria, VA 22350-3100.

Signed, written requests must include the full name of the individual, SSN, name of the program, and the name and number of this system of records notice.”

* * * * *

Record source categories:

Delete entry and replace with “The individual, background investigations and summaries of information from background investigations from the investigating agency, employment suitability related information; and forms and correspondence relating to the security clearance and access of the individual.”

* * * * *

[FR Doc. 2016-01084 Filed 1-20-16; 8:45 am]

BILLING CODE 5001-06-P